DEPARTMENT OF ENERGY

Federal Energy Regulatory Commission

Sunshine Act Meeting

March 21, 2001.

The Following Notice of Meeting is Published Pursuant to Section 3(A) of the Government in the Sunshine Act (Pub. L. No. 94-409), 5 U.S.C. 552B:

AGENCY HOLDING MEETING: Federal Energy Regulatory Commission.

DATE AND TIME: March 28, 2001, 10:00 A.M.

PLACE: Room 2C, 888 First Street, NE., Washington, DC 20426.

STATUS: Open.

MATTERS TO BE CONSIDERED: Agenda.

Note: Items listed on the agenda may be deleted without further notice.

CONTACT PERSON FOR MORE INFORMATION: David P. Boergers, Secretary, telephone (202) 208-0400, for a recording listing items stricken from or added to the meeting, call (202) 208-1627.

This is a list of matters to be considered by the commission. It does not include a listing of all papers relevant to the items on the agenda; however, all public documents may be examined in the reference and information center.

763RD—Meeting March 28, 2001 Regular Meeting 10:00 a.m.

Consent Agenda—Markets, Tariffs and Rates—Electric

CAE-1.

DOCKET# ER01-958 000 NEVADA POWER COMPANY

CAE-2.

DOCKET# ER01-1134 000 CANAL ELECTRIC COMPANY

CAE-3.

DOCKET# ER01-1107 000 AMERICAN TRANSMISSION COMPANY, LLC

CAE-4.

OMITTED

CAE-5.

DOCKET# ER01-1213 000 NEW YORK INDEPENDENT SYSTEM OPERATOR, INC.

CAE-6.

OMITTED

CAE-7.

OMITTED

CAE-8.

DOCKET# ER00-3591 000 NEW YORK INDEPENDENT SYSTEM OPERATOR, INC.

OTHER#S ER00-1969 000 NEW YORK INDEPENDENT SYSTEM OPERATOR, INC.; ER01-94 000 NEW YORK INDEPENDENT SYSTEM OPERATOR, INC.; ER01-180 000 NEW YORK INDEPENDENT SYSTEM OPERATOR, INC.

CAE-9.

DOCKET# ER94-571 000 ALABAMA POWER COMPANY

CAE-10.

DOCKET# ER94-775 000 SOUTHERN CALIFORNIA EDISON COMPANY, PACIFIC GAS AND ELECTRIC COMPANY AND SAN DIEGO GAS & ELECTRIC COMPANY

CAE-11.

DOCKET# ER96-2295 000 FLORIDA POWER CORPORATION

CAE-12.

DOCKET# ER99-196 001 PJM INTERCONNECTION, L.L.C.

CAE-13.

DOCKET# RT01-67 000 GRIDFLORIDA LLC, FLORIDA POWER & LIGHT COMPANY, FLORIDA POWER CORPORATION AND TAMPA ELECTRIC COMPANY

OTHER#S RT01-67 001 GRIDFLORIDA LLC, FLORIDA POWER & LIGHT COMPANY, FLORIDA POWER CORPORATION AND TAMPA ELECTRIC COMPANY

CAE-14.

DOCKET# EL00-105 001 CITY OF VERNON, CALIFORNIA

CAE-15.

DOCKET# ER00-2415 000 ENTERGY SERVICES, INC.

OTHER#S EL00-106 000 ENTERGY SERVICES, INC., ER00-2415 001 ENTERGY SERVICES, INC.

CAE-16.

DOCKET# ER96-237 002 NEW ENGLAND POWER COMPANY

CAE-17.

DOCKET# TX97-9 000 CINERGY SERVICES, INC.

CAE-18.

OMITTED

CAE-19.

OMITTED

CAE-20.

OMITTED

CAE-21.

DOCKET# TX93-4 004 FLORIDA MUNICIPAL POWER AGENCY V. FLORIDA POWER & LIGHT COMPANY

OTHER#S EL93-51 003 FLORIDA MUNICIPAL POWER AGENCY V. FLORIDA POWER & LIGHT COMPANY

CAE-22.

DOCKET# ER99-230 001 ALLIANT SERVICES COMPANY

CAE-23.

OMITTED

CAE-24.

OMITTED

CAE-25.

DOCKET# ER98-3594 003 CALIFORNIA INDEPENDENT SYSTEM OPERATOR CORPORATION

OTHER#S ER98-3594 004 CALIFORNIA INDEPENDENT SYSTEM OPERATOR CORPORATION; ER98-3594 005 CALIFORNIA INDEPENDENT SYSTEM OPERATOR CORPORATION; ER00-1239 002 CALIFORNIA INDEPENDENT SYSTEM OPERATOR CORPORATION

CAE-26.

DOCKET# ER97-1523 026 CENTRAL HUDSON GAS & ELECTRIC CORPORATION, CONSOLIDATED EDISON COMPANY OF NEW YORK, INC., NEW YORK STATE ELECTRIC & GAS CORPORATION, NIAGARA MOHAWK POWER CORPORATION, ORANGE AND ROCKLAND UTILITIES, INC. AND ROCHESTER GAS AND ELECTRIC CORPORATION

OTHER#S OA97-470 024 CENTRAL HUDSON GAS & ELECTRIC CORPORATION, CONSOLIDATED EDISON COMPANY OF NEW YORK, INC., NEW YORK STATE ELECTRIC & GAS CORPORATION, NIAGARA MOHAWK POWER CORPORATION, ORANGE AND ROCKLAND UTILITIES, INC. AND ROCHESTER GAS AND ELECTRIC CORPORATION; ER97-4234 022 CENTRAL HUDSON GAS & ELECTRIC CORPORATION, CONSOLIDATED EDISON COMPANY OF NEW YORK, INC., NEW YORK STATE ELECTRIC & GAS CORPORATION, NIAGARA MOHAWK POWER CORPORATION, ORANGE AND ROCKLAND UTILITIES, INC. AND ROCHESTER GAS AND ELECTRIC CORPORATION

CAE-27.

OMITTED

CAE-28.

DOCKET# ER00-3090 001 PJM INTERCONNECTION, INC.

CAE-29.

DOCKET# ER00-3412 001 AMEREN ENERGY GENERATING COMPANY

CAE-30.

DOCKET# ER00-3591 003 NEW YORK INDEPENDENT SYSTEM OPERATOR, INC.

OTHER#S ER00-1969 001 NEW YORK INDEPENDENT SYSTEM OPERATOR, INC.; ER00-3591 004 NEW YORK INDEPENDENT SYSTEM OPERATOR, INC.

CAE-31.

DOCKET# ER00-3688 001 AMERICAN ELECTRIC POWER SERVICE CORPORATION

CAE-32.

DOCKET# ER00-3316 001 AMERICAN TRANSMISSION COMPANY LLC

CAE-33.

DOCKET# EG01-120 000 NEW HAVEN HARBOR POWER LLC

OTHER#S EG01-121 000 NRG CONNECTICUT POWER ASSETS LLC; EG01-122 000 BRIDGEPORT HARBOR POWER LLC

CAE-34.

DOCKET# ER01-702 000 AMERICAN TRANSMISSION COMPANY, L.L.C.

CAE-35.

DOCKET# EL99-3 000 MIDAMERICAN ENERGY COMPANY

CAE-36.

DOCKET# EL01-31 000 RUMFORD POWER ASSOCIATES L.P. AND TIVERTON POWER ASSOCIATES L.P.

CAE-37.

DOCKET# EL00-99 000 MAINE PUBLIC UTILITIES COMMISSION, UNITED ILLUMINATING COMPANY AND BANGOR HYDRO-ELECTRIC COMPANY V. ISO NEW ENGLAND, INC.

OTHER#S EL00-100 000 MAINE PUBLIC UTILITIES COMMISSION, UNITED ILLUMINATING COMPANY AND BANGOR HYDRO-ELECTRIC COMPANY V. ISO NEW ENGLAND, INC.; EL00-112 000 MAINE PUBLIC UTILITIES COMMISSION, UNITED ILLUMINATING COMPANY AND BANGOR HYDRO-ELECTRIC COMPANY V. ISO NEW ENGLAND, INC.

CAE-38.

OMITTED

CAE-39.

DOCKET# RT01-34 000 SOUTHWEST POWER POOL, INC.

OTHER#S EC99-101 003 NORTHERN STATES POWER COMPANY (MINNESOTA) AND NEW CENTURY ENERGIES, INC.; RT01-75 000 ENTERGY SERVICES, INC.

Consent Agenda—Markets, Tariffs and Rates—Gas

CAG-1.

OMITTED

CAG-2.

DOCKET# RP01-239 000 TENNESSEE GAS PIPELINE COMPANY

CAG-3.

DOCKET# RP01-245 000 TRANSCONTINENTAL GAS PIPE LINE CORPORATION

CAG-4.

DOCKET# RP95-197 038 TRANSCONTINENTAL GAS PIPE LINE CORPORATION

OTHER#S RP97-71 015 TRANSCONTINENTAL GAS PIPE LINE CORPORATION

CAG-5.

DOCKET# RP97-288 013 TRANSWESTERN PIPELINE COMPANY

OTHER#S RP97-288 009 TRANSWESTERN PIPELINE COMPANY; RP97-288 010 TRANSWESTERN PIPELINE COMPANY; RP97-288 011 TRANSWESTERN PIPELINE COMPANY; RP97-288 012 TRANSWESTERN PIPELINE COMPANY; RP97-288 014 TRANSWESTERN PIPELINE COMPANY; RP97-288 015 TRANSWESTERN PIPELINE COMPANY

CAG-6.

DOCKET# RP01-243 000 PINE NEEDLE LNG COMPANY, LLC

CAG-7.

DOCKET# RP99-518 019 PG&E GAS TRANSMISSION, NORTHWEST CORPORATION

CAG-8.

DOCKET# RP01-242 000 SOUTHERN NATURAL GAS COMPANY

CAG-9.

DOCKET# RP01-87 001 TENNESSEE GAS PIPELINE COMPANY

CAG-10.

DOCKET# RP01-236 000 TRANSCONTINENTAL GAS PIPE LINE CORPORATION

OTHER#S RP00-481 000 TRANSCONTINENTAL GAS PIPE LINE CORPORATION; RP00-553 003 TRANSCONTINENTAL GAS PIPE LINE CORPORATION

CAG-11.

DOCKET# RP01-246 000 NATURAL GAS PIPELINE COMPANY OF AMERICA

CAG-12.

DOCKET# RP01-256 000 WILLISTON BASIN INTERSTATE PIPELINE COMPANY

CAG-13.

OMITTED

CAG-14.

DOCKET# RP01-259 000 ANR PIPELINE COMPANY

CAG-15.

DOCKET# RP01-267 000 NORTHERN BORDER PIPELINE COMPANY

CAG-16.

DOCKET# RP01-247 000 VIKING GAS TRANSMISSION COMPANY

CAG-17.

DOCKET# RP01-238 000 TENNESSEE GAS PIPELINE COMPANY

CAG-18.

DOCKET# RP01-262 000 COLUMBIA GAS TRANSMISSION CORPORATION

CAG-19.

DOCKET# RP01-240 000 ANR PIPELINE COMPANY

CAG-20.

OMITTED

CAG-21.

DOCKET# RP01-253 000 TRANSCONTINENTAL GAS PIPE LINE CORPORATION

CAG-22.

DOCKET# RP01-249 000 TRUNKLINE GAS COMPANY

CAG-23.

DOCKET# RP01-255 000 COVE POINT LNG LIMITED PARTNERSHIP

CAG-24.

DOCKET# PR01-1 000 ASSOCIATED NATURAL GAS COMPANY

CAG-25.

DOCKET# PR01-2 000 THE PEOPLES GAS LIGHT AND COKE COMPANY

CAG-26.

DOCKET# RP00-601 001 DOMINION TRANSMISSION, INC.

CAG-27.

DOCKET# RP01-81 000 TENNESSEE GAS PIPELINE COMPANY

CAG-28.

DOCKET# RP01-180 000 SAN DIEGO GAS & ELECTRIC COMPANY

OTHER#S RP01-222 000 THE LOS ANGELES DEPARTMENT OF WATER AND POWER; RP01-223 000 NATIONAL ASSOCIATION OF GAS CONSUMERS V. ALL SELLERS OF NATURAL GAS IN THE UNITED STATES OF AMERICA IN INTERSTATE COMMERCE

CAG-29.

DOCKET# RP01-20 001 TENNESSEE GAS PIPELINE COMPANY

CAG-30.

OMITTED

CAG-31.

DOCKET# RP01-25 003 TEXAS EASTERN TRANSMISSION CORPORATION

CAG-32.

DOCKET# RP01-251 000 TRANSCOLORADO GAS TRANSMISSION COMPANY

CAG-33.

DOCKET# RP99-510 002 GULF SOUTH PIPELINE COMPANY, LP (FORMERLY KOCH GATEWAY PIPELINE COMPANY)

CAG-34.

DOCKET# RP00-533 001 ALGONQUIN GAS TRANSMISSION COMPANY

OTHER#S RP00-535 001 TEXAS EASTERN TRANSMISSION CORPORATION

CAG-35.

DOCKET# RP93-109 017 WILLIAMS GAS PIPELINES CENTRAL, INC.

CAG-36.

DOCKET# OR01-2 000 BIG WEST OIL COMPANY V. FRONTIER PIPELINE COMPANY AND EXPRESS PIPELINE PARTNERSHIP

OTHER#S OR01-3 000 BIG WEST OIL COMPANY V. ANSCHUTZ RANCH EAST PIPELINE INC. AND EXPRESS PIPELINE PARTNERSHIP

CAG-37.

DOCKET# RP00-241 000 PUBLIC UTILITIES COMMISSION OF THE STATE OF CALIFORNIA V. EL PASO NATURAL GAS COMPANY, EL PASO MERCHANT ENERGY—cGAS, L.P. AND EL PASO MERCHANT ENERGY COMPANY

CAG-38.

DOCKET# RP01-27 000 SOUTHERN CALIFORNIA GAS COMPANY V. EL PASO NATURAL GAS COMPANY

CAG-39.

DOCKET# MG01-19 000 SOUTHERN NATURAL GAS COMPANY

CAG-40.

DOCKET# MG01-11 000 MOJAVE PIPELINE COMPANY

Consent Agenda—Energy Projects—Hydro

CAH-1.

DOCKET# DI99-10 001 CITY OF UNALASKA, ALASKA

CAH-2.

DOCKET# P-4632 028 CLIFTON POWER CORPORATION

CAH-3.

DOCKET# P-184 076 EL DORADO IRRIGATION DISTRICT

CAH-4.

DOCKET# P-2170 022 CHUGACH ELECTRIC ASSOCIATION, INC.

CAH-5.

DOCKET# P-4244 019 NORTHUMBERLAND HYDRO PARTNERS, L.P.

CAH-6.

DOCKET# P-2556 033 FPL ENERGY MAINE HYDRO, LLC

OTHER#S P-2557 018 FPL ENERGY MAINE HYDRO, LLC; P-2559 017 FPL ENERGY MAINE HYDRO, LLC

CAH-7.

OMITTED

CAH-8.

DOCKET# UL96-16 006 CHIPPEWA AND FLAMBEAU IMPROVEMENT COMPANY

OTHER#S UL96-17 006 CHIPPEWA AND FLAMBEAU IMPROVEMENT COMPANY

CAH-9.

DOCKET# P-2150 020 PUGET SOUND ENERGY, INC.

CAH-10.

DOCKET# P-10311 002 SKAGIT RIVER HYDRO

OTHER#S P-10311 003 SKAGIT RIVER HYDRO; P-10311 005 SKAGIT RIVER HYDRO

CAH-11.

DOCKET# P-2177 040 GEORGIA POWER COMPANY

Consent Agenda—Energy Projects—Certificates

CAC-1.

DOCKET# CP00-165 000 TRANSCONTINENTAL GAS PIPE LINE CORPORATION

CAC-2.

DOCKET# CP01-26 000 TENNESSEE GAS PIPELINE COMPANY AND NATIONAL FUEL GAS SUPPLY CORPORATION

CAC-3.

DOCKET# CP00-452 000 COLORADO INTERSTATE GAS COMPANY

CAC-4.

DOCKET# CP01-12 000 EL PASO NATURAL GAS COMPANY

CAC-5.

DOCKET# CP01-41 000 EL PASO NATURAL GAS COMPANY

CAC-6.

DOCKET# CP98-131 004 VECTOR PIPELINE L.P.

CAC-7.

DOCKET# CP00-114 000 TRUNKLINE GAS COMPANY

CAC-8.

DOCKET# CP01-40 000 BITTER CREEK PIPELINES, LLC

CAC-9.

DOCKET# CP96-159 001 MISSISSIPPI CANYON GAS PIPELINE, LLC (FORMERLY SHELL GAS PIPELINE COMPANY)

OTHER#S CP96-159 004 MISSISSIPPI CANYON GAS PIPELINE, LLC (FORMERLY SHELL GAS PIPELINE COMPANY)

Energy Projects—Hydro Agenda

H-1. RESERVED

Energy Projects—Certificates Agenda

C-1.

OMITTED

Markets, Tariffs and Rates—Electric Agenda

E-1.

RESERVED

Markets, Tariffs and Rates—Gas Agenda

G-1.

RESERVED

David P. Boergers,
Secretary.

[FR Doc. 01-7502 Filed 3-22-01; 12:16 pm]

BILLING CODE 6717-01-P